DEPARTMENT OF DEFENSE

Office of the Secretary of Defense

[DOD-2006-OS-0203]

Privacy Act of 1974; System of Records

AGENCY: Office of the Secretary, DoD.

ACTION: Notice to amend systems of records.

SUMMARY: The Office of the Secretary of Defense is amending a system of records notice in its existing inventory of record systems subject to the Privacy Act of 1974, (5 U.S.C. 552a), as amended.

DATES: This proposed action will be effective without further notice on November 9, 2006 unless comments are received which result in a contrary determination.

ADDRESSES: Send comments to the OSD Privacy Act Coordinator, Records Management Section, Washington Headquarters Services, 1155 Defense Pentagon, Washington, DC 20301-1155.

FOR FURTHER INFORMATION CONTACT: Ms. Juanita Irvin at (703) 696-4940.

SUPPLEMENTARY INFORMATION: The Office of the Secretary of Defense systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: October 2, 2006.
C.R. Choate,
Alternate OSD Federal Register Liaison Officer, Department of Defense.

DWHS P18

System Name:

Office of the Secretary of Defense Identification Badge Suspense Card System (February 22, 1993, 58 FR 10227).

Changes:

* * * * *

System Name:

Delete entry and replace “Office of the Secretary of Defense Identification Badge System.”

System Location:

Delete entry and replace “Military Personnel, Washington Headquarters Services, Department of Defense, Room 5E556, 1155 Defense Pentagon, Washington, DC 20301-1155.”

Categories of individuals covered by the system:

Delete “and activities serviced by WHS.”

Categories of records in the system:

Delete, “and activities serviced by WHS.”

* * * * *

Purpose(s):

Delete “and activities serviced by WHS.”

* * * * *

Storage:

Delete entry and replace with “Excel Database.”

Retrievability:

Delete entry and replace with “Information is retrieved by last name of recipient, social security number, grade, and/or service.”

Safeguards:

Delete entry and replace with “Automated records are maintained in controlled areas accessible only to authorized personnel. Entry to these areas is restricted to personnel with a valid requirement and authorization to enter. Back-up data maintained at each location is stored in a locked room.”

Retention and disposal:

Delete entry and replace with “Records maintained by the Service Representatives in OSD Military Personnel are considered unit-level files for the Service elements and are maintained in accordance with the appropriate Service regulations.”

System manager(s) and address:

Delete name and address and replace with “Military Personnel, Washington Headquarters Services, Department of Defense, Room 5E556, 1155 Defense Pentagon, Washington, DC 20301-1155.”

Notification procedure:

Delete name and address and replace with “Military Personnel, Washington Headquarters Services, Department of Defense, Room 5E556, 1155 Defense Pentagon, Washington, DC 20301-1155.”

Record access procedures:

Delete entry and replace with “Military Personnel, Washington Headquarters Services, Department of Defense, Room 5E556, 1155 Defense Pentagon, Washington, DC 20301-1155.”

* * * * *

DWHS P18

System name:

Office of the Secretary of Defense Identification Badge System.

System location:

Military Personnel, Washington Headquarters Services, Department of Defense, Room 5E556, 1155 Defense Pentagon, Washington, DC 20301-1155.

Categories of individuals covered by the system:

All military personnel assigned to the Office of the Secretary of Defense.

Categories of records in the system:

All military personnel who are eligible for the Office of the Secretary of Defense Identification Badge after being assigned on permanent duty with the Office of the Secretary of Defense for a period of one year. Data includes name, Social Security Number, the Office of the Secretary of Defense activity, grade, service and dates.

Authority for maintenance of the system: 10 U.S.C. 1125.

Purpose(s):

To be used by officials of the Military Personnel Division, WHS to establish who is eligible for the Office of the Secretary of Defense Identification Badge after being assigned to an authorized space in the Office of the Secretary of Defense.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of OSD's compilation of systems of records notices apply to this system.

Policies and practices for storing, retrieving, accessing, retaining, and disposing of records in the system:

Storage:

Excel Database.

Retrievability:

Information is retrieved by last name of recipient, social security number, grade, and/or service.

Safeguards:

Automated records are maintained in controlled areas accessible only to authorized personnel. Entry to these areas is restricted to personnel with a valid requirement and authorization to enter. Back-up data maintained at each location is stored in a locked room.

Retention and disposal:

Records maintained by the Service Representatives in OSD Military Personnel are considered unit-level files for the Service elements and are maintained in accordance with the appropriate Service regulations.

System manager(s) and address:

Military Personnel, Washington Headquarters Services, Department of Defense, Room 5E556, 1155 Defense Pentagon, Washington, DC 20301-1155.

Notification procedure:

Individuals seeking to determine whether information about themselves is contained in this system should address written inquiries to Military Personnel, Washington Headquarters Services, Department of Defense, Room 5E556, 1155 Defense Pentagon, Washington, DC 20301-1155.

Record access procedures:

Individuals seeking access to information about themselves contained in this system should address written inquiries to Military Personnel, Washington Headquarters Services, Department of Defense, Room 5E556, 1155 Defense Pentagon, Washington, DC 20301-1155.

Contesting record procedures:

The OSD rules for accessing records, for contesting contents and appealing initial agency determinations are published in OSD Administrative Instruction 81; 32 CFR part 311; or may be obtained from the system manager.

Record source categories:

Written or verbal inquiries.

Exemptions claimed for the system:

None.

[FR Doc. E6-16672 Filed 10-6-06; 8:45 am]

BILLING CODE 5001-06-P